SMALL BUSINESS ADMINISTRATION

[Disaster Declaration #12558 and #12559]

Tennessee Disaster Number TN-00052

AGENCY: U.S. Small Business Administration .

ACTION: Amendment 2.

SUMMARY: This is an amendment of the Presidential declaration of a major disaster for Public Assistance Only for the State of Tennessee (FEMA-1974-DR), dated 05/01/2011.

Incident: Severe Storms, Tornadoes, Straight-line Winds, and Associated Flooding.

Incident Period: 04/25/2011 through 04/28/2011.

Effective Date: 06/02/2011.

Physical Loan Application Deadline Date: 06/30/2011.

Economic Injury (Eidl) Loan Application Deadline Date: 02/01/2012.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the President's major disaster declaration for Private Non-Profit organizations in the State of Tennessee, dated 05/01/2011, is hereby amended to include the following areas as adversely affected by the disaster.

Primary Counties: Fentress, Franklin, Giles, Hickman, Houston, Jackson, Knox, Lawrence, Lewis, Lincoln, Loudon, Marshall, Montgomery, Moore, Perry, Pickett, Polk, Scott, Sequatchie, Smith, Sullivan, Wayne, Blount, Campbell, Humphreys.

All other information in the original declaration remains unchanged.

(Catalog of Federal Domestic Assistance Numbers 59002 and 59008)

James E. Rivera,
Associate Administrator for Disaster Assistance.

[FR Doc. 2011-14265 Filed 6-8-11; 8:45 am]

BILLING CODE 8025-01-P